DEPARTMENT OF ENERGY

Federal Energy Regulatory Commission

Combined Notice of Filings # 1

January 8, 2010.

Take notice that the Commission received the following electric corporate filings:

Docket Numbers: EC10-35-000.

Applicants: Integrys Energy Services, Inc., Macquarie Cook Power Inc.

Description: Joint Application for Authorization under Section 203 of the federal power act to dispose of jurisdictional facilities and requests for expedited consideration and confidential treatment re Integrys Energy Service, Inc. et al.

Filed Date: 01/05/2010.

Accession Number: 20100106-0222.

Comment Date: 5 p.m. Eastern Time on Tuesday, January 26, 2010.

Take notice that the Commission received the following electric rate filings:

Docket Numbers: ER01-462-002.

Applicants: DPL Energy Resources, Inc.

Description: DPL Energy Resources, Inc. submits withdrawal of its Application to Modify Market Based Rate Tariffs, To Request Waivers of Requirements for Transaction Among Affiliates, etc.

Filed Date: 01/06/2010.

Accession Number: 20100107-0043.

Comment Date: 5 p.m. Eastern Time on Wednesday, January 27, 2010.

Docket Numbers: ER10-56-001.

Applicants: MidAmerican Energy Company.

Description: MidAmerican Energy Company submits an Original Sheet 13 to FERC Rate Schedule 111 of the Joint Pricing Zone Revenue Allocation Agreement, etc.

Filed Date: 01/06/2010.

Accession Number: 20100106-0218.

Comment Date: 5 p.m. Eastern Time on Wednesday, January 27, 2010.

Docket Numbers: ER10-451-001.

Applicants: Saracen Power LP.

Description: Saracen Power LP resubmits tariff sheets associated with the 12/17/09 “Notice of Succession” and enclosed clean and redline versions of First Revised Rate Schedule FERC 1, et al.

Filed Date: 01/06/2010.

Accession Number: 20100106-0217.

Comment Date: 5 p.m. Eastern Time on Wednesday, January 27, 2010.

Docket Numbers: ER10-548-000.

Applicants: Duke Energy Carolinas, LLC.

Description: Duke Energy Carolinas, LLC submits Power Purchase Agreement with Town of Highlands, et al.

Filed Date: 12/30/2009.

Accession Number: 20100104-0157.

Comment Date: 5 p.m. Eastern Time on Wednesday, January 20, 2010.

Docket Numbers: ER10-553-000.

Applicants: Hannaford Energy, LLC.

Description: Hannaford Energy, LLC submits an application for market-based rate authorization.

Filed Date: 01/06/2010.

Accession Number: 20100107-0214.

Comment Date: 5 p.m. Eastern Time on Wednesday, January 27, 2010.

Docket Numbers: ER10-558-000.

Applicants: Florida Power Corporation.

Description: Florida Power Corporation submits revised schedule sheets amending the notice of termination provision for the Agreement, etc.

Filed Date: 01/06/2010.

Accession Number: 20100107-0207.

Comment Date: 5 p.m. Eastern Time on Wednesday, January 27, 2010.

Docket Numbers: ER10-560-000.

Applicants: Commonwealth Edison Company.

Description: Commonwealth Edison Company submits the Transmission Interconnection Upgrade Agreement with Northern Public Service Co.

Filed Date: 01/06/2010.

Accession Number: 20100107-0205.

Comment Date: 5 p.m. Eastern Time on Wednesday, January 27, 2010.

Docket Numbers: ER10-562-000.

Applicants: MidAmerican Energy Company.

Description: MidAmerican Energy Company submits a First Revised 1-5, et al., to the Joint Pricing Zone Revenue Allocation Agreement between MidAmerican and Cedar Falls.

Filed Date: 01/07/2010.

Accession Number: 20100107-0215.

Comment Date: 5 p.m. Eastern Time on Thursday, January 28, 2010.

Docket Numbers: ER10-563-000.

Applicants: Midwest Independent Transmission System Operator, Inc.

Description: Midwest Independent Transmission System Operator, Inc., submits an executed Amended and Restated Generator Interconnection Agreement.

Filed Date: 01/07/2010.

Accession Number: 20100107-0220.

Comment Date: 5 p.m. Eastern Time on Thursday, January 28, 2010.

Docket Numbers: ER10-564-000.

Applicants: Entergy Services, Inc.

Description: Entergy Services, Inc., submits amendment to the ICT Agreement and requests for shortened notice and comment period, etc.

Filed Date: 01/07/2010.

Accession Number: 20100108-0202.

Comment Date: 5 p.m. Eastern Time on Thursday, January 14, 2010.

Docket Numbers: ER10-565-000.

Applicants: PacifiCorp.

Description: PacifiCorp submits Third Revised Service Agreement No. 66.

Filed Date: 01/07/2010.

Accession Number: 20100108-0201

Comment Date: 5 p.m. Eastern Time on Thursday, January 28, 2010.

Take notice that the Commission received the following open access transmission tariff filings:

Docket Numbers: OA10-4-000.

Applicants: Canandaigua Power Partners, LLC, Evergreen Wind Power V, LLC, Canandaigua Power Partners II, LLC, Evergreen Wind Power III, LLC, Stetson Wind II, LLC, Evergreen Gen Lead, LLC, First Wind Energy Marketing, LLC, Champlain Wind, LLC.

Description: Evergreen Wind Power V, LLC, et al. Request for waivers of OATT, OASIS, and Standards of Conduct requirements.

Filed Date: 01/07/2010.

Accession Number: 20100107-5091

Comment Date: 5 p.m. Eastern Time on Thursday, January 28, 2010.

Docket Numbers: OA10-5-000.

Applicants: ConocoPhillips Company.

Description: Request for Waiver of Order Nos. 888, 889, and 890 and Part 358 of ConocoPhillips Company.

Filed Date: 01/07/2010.

Accession Number: 20100107-5105.

Comment Date: 5 p.m. Eastern Time on Thursday, January 28, 2010.

Take notice that the Commission received the following PURPA 210(m)(3) filings:

Docket Numbers: QM10-4-000

Applicants: Public Service Company of New Hampshire.

Description: Northeast Utilities Service Co., submits the Application of Public Service Company of New Hampshire for Authorization to Terminate the Mandatory Power Purchase Obligation, etc.

Filed Date: 01/07/2010.

Accession Number: 20100107-0216.

Comment Date: 5 p.m. Eastern Time on Thursday, February 4, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-1013 Filed 1-20-10; 8:45 am]

BILLING CODE 6717-01-P